DEPARTMENT OF THE INTERIOR

Minerals Management Service

Agency Information Collection Activities: Proposed Collection; Comment Request

AGENCY: Minerals Management Service (MMS), Interior.

ACTION: Notice of extension of an information collection (1010-0143).

SUMMARY: To comply with the Paperwork Reduction Act of 1995 (PRA), we are inviting comments on a collection of information that we will submit to the Office of Management and Budget (OMB) for review and approval. The information collection request (ICR) concerns the paperwork requirements in the regulations under 30 CFR 260, “Outer Continental Shelf Oil and Gas Leasing.”

DATES: Submit written comments by August 18, 2003.

ADDRESSES: Mail or hand carry comments to the Department of the Interior; Minerals Management Service; Attention: Rules Processing Team; Mail Stop 4024; 381 Elden Street; Herndon, Virginia 20170-4817. If you wish to e-mail comments, the address is: rules.comments@mms.gov. Reference “Information Collection 1010-0143” in your e-mail subject line and mark your message for return receipt. Include your name and return address in your message.

FOR FURTHER INFORMATION CONTACT: Arlene Bajusz, Rules Processing Team, (703) 787-1600. You may also contact Arlene Bajusz to obtain a copy, at no cost, of the regulations that require the subject collection of information.

SUPPLEMENTARY INFORMATION: Title: 30 CFR Part 260, Outer Continental Shelf Oil and Gas Leasing.

OMB Control Number: 1010-0143.

Abstract: The Outer Continental Shelf (OCS) Lands Act, as amended (43 U.S.C. 1331 et seq. and 43 U.S.C. 1801 et seq.), authorizes the Secretary of the Interior (Secretary) to prescribe rules and regulations to administer leasing of the OCS. Section 8(a)(1) of the OCS Lands Act provides authority for the Secretary to offer leases under a variety of bidding systems. The regulations at 30 CFR part 260 describe the bidding systems, our joint bidding requirements, and royalty suspensions for certain leases. They encourage leasing competition through the use of appropriate bidding-system alternatives and a joint bidding ban among certain large companies. Also, these regulations implement the Secretary's authority to promote leasing interest in certain areas of the OCS through automatic suspension of royalties. The Minerals Management Service (MMS) administers this program for the Secretary.

Regulations under part 260 require lessees to notify MMS of their intention to begin production. Lessees must also request confirmation of the size of the royalty-suspension volume that applies to the pre-2001 eligible lease. The MMS uses the information collected to make decisions on the shares of the royalty-suspension volume that applies to multiple pre-2001 eligible leases on the same field. The information is used to ensure royalty suspension volume is properly allocated among constituent leases in a field. Respondents may request reconsideration of an assignment of their lease that has a qualifying well to an existing field or to a newly designated field. We will use the information to reconsider and adjust, if necessary, the initial field assignment for a lease. These decisions can be contentious because a favorable field assignment can save a lessee tens of millions of dollars in royalties. However, currently pending legislation may result in the elimination of this information collection.

We will protect information from respondents considered proprietary under the Freedom of Information Act (5 U.S.C. 552), and its implementing regulations (43 CFR part 2), and under regulations at 30 CFR parts 250, 251, and 252. No items of a sensitive nature are collected. Responses are mandatory or required to obtain or retain a benefit.

Frequency: On occasion.

Estimated Number and Description of Respondents: Approximately 130 Federal OCS oil and gas lessees.

Estimated Reporting and Recordkeeping “Hour” Burden: The currently approved annual reporting burden for this collection is 1,603 hours. The individual components and their respective hour burden estimates are detailed below. In calculating the burdens, we assumed that respondents perform certain requirements in the normal course of their activities. We consider these to be usual and customary and took that into account in estimating the burden.

§§ 260.114(a) and 260.124(a)—Request MMS to reconsider the field assignment of a lease (average of 400 hours per request × 4 requests = 1,600 hours).

§ 260.114(c)—Notify MMS of intent to begin production and request confirmation of the size of royalty-suspension volume (½ hour per notice × 6 notices = 3 hours).

Part 260 also refers to various items of information collected under 30 CFR parts 203 and 256. OMB has approved those information collections under OMB Control Numbers 1010-0071 and 1010-0006, respectively.

Estimated Reporting and Recordkeeping “Non-Hour Cost” Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: Our practice is to make comments, including names and home addresses of respondents, available for public review during regular business hours. Individual respondents may request that we withhold their home address from the record, which we will honor to the extent allowable by law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: June 5, 2003.
E.P. Danenberger,
Chief, Engineering and Operations Division.

[FR Doc. 03-15412 Filed 6-18-03; 8:45 am]

BILLING CODE 4310-MR-P